DEPARTMENT OF ENERGY

Federal Energy Regulatory Commission

[Docket No. RP04-116-000]

Texas Eastern Transmission, LP; Notice of Tariff Filing

December 30, 2003.

Take notice that on December 19, 2003, Texas Eastern Transmission, LP (Texas Eastern) tendered for filing as part of its FERC Gas Tariff, Seventh Revised Volume No. 1, Original Sheet No. 521A, to be effective January 18, 2004.

Texas Eastern states that the purpose of this filing is to modify its Tariff to implement a defined timeline that will provide clarity on the timing of future sales of available capacity on Texas Eastern's system. Texas Eastern further states that this timeline clarifies when it will be required to sell available capacity, based upon the length of the contract term requested by the prospective Customer.

Texas Eastern states that copies of its filing have been mailed to all affected customers and interested state commissions.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-7 Filed 1-8-04; 8:45 am]

BILLING CODE 6717-01-P